DEPARTMENT OF COMMERCE

National Oceanic and Atmospheric Administration

[RTID 0648-XC967]

Endangered Species; File No. 24016-01

AGENCY: National Marine Fisheries Service (NMFS), National Oceanic and Atmospheric Administration (NOAA), Commerce.

ACTION: Notice; receipt of application for a permit modification.

SUMMARY: Notice is hereby given that Jason Kahn, Ph.D., National Marine Fisheries Service, 1315 East-West Highway, Silver Spring, MD 20910, has applied in due form for a permit modification to take Atlantic (Acipenser oxyrinchus) and shortnose (A. brevirostrum) sturgeon for purposes of scientific research.

DATES: Written, telefaxed, or emailed comments must be received on or before May 31, 2023.

ADDRESSES: The application request and related documents are available for review by selecting “Records Open for Public Comment” from the Features box on the Applications and Permits for Protected Species (APPS) home page, https://apps.nmfs.noaa.gov, and then selecting File No. 20416-01 from the list of available applications. These documents are also available upon written request via email to NMFS.Pr1Comments@noaa.gov.

Written comments on this application should be submitted via email to NMFS.Pr1Comments@noaa.gov. Please include File No. 20416-01 in the subject line of the email comment.

Those individuals requesting a public hearing should submit a written request via email to NMFS.Pr1Comments@noaa.gov. The request should set forth the specific reasons why a hearing on this application would be appropriate.

FOR FURTHER INFORMATION CONTACT: Malcolm Mohead or Erin Markin, Ph.D. at (301) 427-8401.

SUPPLEMENTARY INFORMATION: The subject permit modification to Permit No. 24016, issued on January 28, 2021 (86 FR 13700, March 10, 2021), is requested under the authority of the Endangered Species Act of 1973, as amended (16 U.S.C. 1531 et seq.) and the regulations governing the taking, importing, and exporting of endangered and threatened species (50 CFR parts 222-226).

Permit No. 24016 currently authorizes the permit holder to conduct scientific research on Atlantic and shortnose sturgeon in freshwater and estuary areas of the Chesapeake Bay and other coastal rivers, assessing sturgeon population and reproductive capacity, as well as monitoring spawning activity, movement, and habitat through telemetry. Atlantic and shortnose sturgeon life stages may be captured using gill or trammel nets, trawls, and trapping nets (e.g., fyke, or other trap nets). All animals are marked with passive integrated transponder (PIT) and Floy tags, genetic tissue sampled, measured, weighed, photographed and released. Subsets of animals are also anesthetized, and internally or externally acoustically tagged, biologically sampled (i.e., fin ray, blood, gametes), endoscoped and ultrasounded. Larvae and eggs are currently collected with D-nets, trawls (i.e., epibenthic sleds), and egg mats. The applicant anticipates that up to one adult/sub-adult and one juvenile Atlantic sturgeon may be killed annually. The proposed modification focuses on activities designed to stage the reproductive status of eggs collected from female sturgeon captured from the York River (Virginia) and its tributaries. To understand sturgeon egg development and spawning characteristics in the York River, the Permit Holder is requesting to directly sample an additional 800 eggs using an approved egg extraction device. The permit is valid through January 31, 2031.

Dated: April 25, 2023.
Amy Sloan,
Deputy Chief, Permits and Conservation Division, Office of Protected Resources, National Marine Fisheries Service.

[FR Doc. 2023-09075 Filed 4-28-23; 8:45 am]

BILLING CODE 3510-22-P